DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date:

February 26, 2002—9 a.m.-6:00 p.m.

February 27, 2002—10 a.m.-3:30 p.m.

Place: Hubert H. Humphrey Building, Room 705A, 200 Independence Avenue SW., Washington, DC 20201.

Status: Open.

Purpose: At this meeting the Committee will hear presentations and hold discussions on several health data policy topics. On the first day the full Committee will be briefed by HHS staff on number of topics including an update on activities of the HHS Data Council; Department responses to recent reports and recommendations from the Committee; and the status of implementation of the administrative simpllification provisions of the Health Insurance Portability and Accountability Act of 1996 (HIPAA) including the status of privacy and data standards regulations. The Committee will hear presentations on Public Health Preparedness and the National Health Information Infrastructure from a panel of speakers, and a second panel of speakers will present on the Public Key Infrastructure. The Committee will also review drafts of written materials including its 5th annual report to Congress on the implementation of HIPAA administrative simplification provisions. There will be Subcommittee breakout sessions late in the afternoon of the first day and prior to the full Committee meeting on the second day. On the second day the Committee will hear from the Director of the National Center for Health Statistics on that agency's activities and will be briefed by the HHS Office for Human Research Protections on the mission and purpose of that Office. Later in the day the Committee will hear reports from the Subcommittees and Workgroups. Finally, the agendas for future NCVHS meetings will be discussed.

Notice: In the interest of security, HHS has instituted stringent procedures for entrance to the Hubert H. Humphrey building by non-government employees. Persons without a government identification card may need to have the guard call for an escort to the meeting.

Contact Person for More Information: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/, where further information including an agenda will be posted when available.

Dated: February 8, 2002.
James Scanlon,
Director, Division of Data Policy, Office of the Assistant Secretary for Planning and Evaluation.

[FR Doc. 02-3753 Filed 2-14-02; 8:45 am]

BILLING CODE 4151-05-M